DEPARTMENT OF TRANSPORTATION

Research and Special Programs Administration, Office of Hazardous Materials Safety

Notice of Applications for Modification of Exemption

AGENCY: Research and Special Programs Administration, DOT.

ACTION: List of applications for modification of exemptions.

SUMMARY: In accordance with the procedures governing the application for, and the processing of, exemptions from the Department of Transportation's Hazardous Materials Regulations (49 CFR part 107, subpart B), notice is hereby given that the Office of Hazardous Materials Safety has received the applications described herein. This notice is abbreviated to expedite docketing and public notice. Because the sections affected, modes of transportation, and the nature of application have been shown in earlier Federal Register publications, they are not repeated here. Requests for modifications of exemptions (e.g. to provide for additional hazardous materials, packaging design changes, additional mode of transportation, etc.) are described in footnotes to the application number. Application numbers with the suffix “M” denote a modification request. These applications have been separated from the new applications for exemptions to facilitate processing.

DATES: Comments must be received on or before March 13, 2001.

ADDRESS COMMENTS TO: Records Center, Research and Special Programs Administration, U.S. Department of Transportation, Washington, DC 20590.

Comments should refer to the application number and be submitted in triplicate. If confirmation of receipt of comments is desired, include a self-addressed stamped postcard showing the exemption number.

FOR FURTHER INFORMATION CONTACT: Copies of the applications are available for inspection in the Records Center, Nassif Building, 400 7th Street, SW, Washington, DC or at http://dms.dot.gov.

This notice of receipt of applications for modification of exemptions is published in accordance with Part 107 of the Federal hazardous materials transportation law (49 U.S.C. 5117(b); 49 CFR 1.53(b)).

Issued in Washington, DC, on February 20, 2001.
J. Suzanne Hedgepeth,
Director, Office of Hazardous Materials, Exemptions and Approvals.

Application No. | Docket No. | Applicant | Modification of exemption
4354-M |  | PPG Industries, Inc., Pittsburgh, PA (See Footnote 1) | 4354
8826-M |  | Phoenix Air Group, Inc., Cartersville, GA (See Footnote 2) | 8826
10066-M |  | CONAX Florida Corporation, St. Petersburg, FL (See Footnote 3) | 10066
10143-M |  | Eurocom, Inc., Irving, TX (See Footnote 4) | 10143
10389-M |  | Great Lakes Chemical Corporation, El Dorado, AR (See Footnote 5) | 10389
10695-M |  | 3M Company, St. Paul, MN (See Footnote 6) | 10695
10945-M |  | Structural Composites Industries, Pomona, CA (See Footnote 7) | 10945
11244-M |  | Aerospace Design & Development, Inc., Longmont, CO (See Footnote 8) | 11244
11252-M |  | CCL Container, Don Mills, Ontario, CN (See Footnote 9) | 11252
11620-M |  | CCL Container, Don Mills, Ontario, CN (See Footnote 10) | 11620
11759-M |  | Honeywell International, Inc., Morristown, NJ (See Footnote 11) | 11759
12116-M | RSPA-1998-4206 | Proserv (North Sea), Ltd., Aberdeen AB11 5RJ, Scotland, UK (See Footnote 12) | 12116
12122-M | RSPA-1998-4313 | Atlantic Research Corp. Automotive Products Group, Knoxville, TN (See Footnote 13) | 12122
12124-M | RSPA-1998-4309 | Albermarle Corporation, Baton Rouge, LA (See Footnote 14) | 12124
12405-M | RSPA-2000-6766 | Air Products and Chemicals, Inc., Allentown, PA (See Footnote 15) | 12405
12561-M | RSPA-2000-8305 | Rodia, Incorporated, Cranbury, NJ (See Footnote 16) | 12561
12580-M | RSPA-2000-8386 | Matheson Tri-Gas, East Rutherford, NJ (See Footnote 17) | 12580
12595-M | RSPA-2001-8643 | Marsulex, Inc., Toledo, OH (See Footnote 18) | 12595
(¹) To modify the exemption to authorize the use of plastic pallets for the loading of polyethylene drums or composite packagings transporting certain Division 6.1 materials.
(²) To modify the exemption to revise Flight Plan language in Section 7.h. of the exemption to apply to flights inside the United States only.
(³) To modify the exemption to update drawing configurations of the non-DOT specification cylinder pertaining to a self-inflating life raft for shipment of Division 2.2 and Class 9 materials.
(⁴) To modify the exemption to authorize cargo and passenger-carrying aircraft as additional modes of transportation for Division 2.2 materials in a non-DOT specification container.
(⁵) To modify the exemption to authorize the transportation of Bromine, Class 8 (6.1) in tank cars to remain standing with unloading connections attached when no product is being transferred.
(⁶) To modify the exemption to authorize various changes to the packaging and safety control measures for the transportation of ethylene oxide packaged in aluminum cartridges within a fiberboard box.
(⁷) To modify the exemption to allow for the transportation of additional Division 2.2 materials in non-DOT specification fiber reinforced plastic full composite cylinders.
(⁸) To modify the exemption to allow for a design change of the non-DOT specification titanium alloy cylinder for the transportation of Division 2.2 materials.
(⁹) To modify the exemption to authorize additional relief of the testing requirements of the non-DOT specification metal aerosol containers.
(¹⁰) To modify the exemption to authorize an increase in the container and burst pressure; allow for the transportation of Division 2.1 materials in non-DOT specification cylinders.
(¹¹) To modify the exemption to authorize the use of an additional specification tank care with increased wall thickness for the transportation of Division 6.1 materials.
(¹²) To modify the exemption to authorize a change to the maximum operating pressure and volume of non-DOT specification cylinders used for oil well sampling.
(¹³) To modify the exemption to allow for a design change to use openings in the sidewall for filling the pressure vessel, used as a component of an automobile safety system.
(¹⁴) To modify the exemption to allow for the transportation of additional Division 4.3 materials in a non-DOT specification portable tank.
(¹⁵) To modify the exemption to authorize 3T, 3AAX and 3AX cylinders as additional packagings for the transportation of Division 2.1, 2.2 and 2.3 materials; and changes to the operational controls concerning pressure and temperature monitoring.
(¹⁶) To modify the exemption to allow for the use of the Barber S-2-HD model truck for the transportation of Class 8 materials in DOT Specification 111S100W-2 tank cars.
(¹⁷) To reissue the exemption originally issued on an emergency basis for certain non-DOT specification foreign cylinders which are charged for export only transporting certain Division 4.3 materials.
(¹⁸) To reissue the exemption originally issued on an emergency basis for the transportation of sulfur dioxide in a tank car using Division 2.3 international placards.

[FR Doc. 01-4673 Filed 2-23-01; 8:45 am]

BILLING CODE 4910-60-M